FEDERAL TRADE COMMISSION

[File No. P072108]

Agency Information Collection Activities; Proposed OMB Generic Clearance; Comment Request; Generic Clearance for Information Collection Using Voluntary Surveys for Studies Conducted by the Federal Trade Commission Bureau of Economics To Support the FTC's Missions To Protect Consumers and Competition

AGENCY: Federal Trade Commission.

ACTION: Notice and request for comment.

SUMMARY: The Federal Trade Commission (FTC) is announcing an opportunity for public comment on the proposed collection of certain information through voluntary surveys for studies conducted by the agency. Under the Paperwork Reduction Act of 1995 (the PRA), Federal agencies are required to publish notice in the Federal Register concerning each proposed collection of information and to allow 60 days for public comment in response to the notice. This notice solicits comments on a generic clearance for the FTC to conduct voluntary surveys/experiments for social and behavioral research that support FTC's consumer protection and competition missions.

DATES: Comments must be filed by September 8, 2025.

ADDRESSES: Interested parties may file a comment online or on paper, by following the instructions in the Request for Comment part of the SUPPLEMENTARY INFORMATION section below. Write “Generic Clearance for Information Collection Using Voluntary Surveys; PRA Comment; P072108” on your comment and file your comment online at https://www.regulations.gov by following the instructions on the web-based form. If you prefer to file your comment on paper, mail your comment to the following address: Federal Trade Commission, Office of the Secretary, 600 Pennsylvania Avenue NW, Mail Stop H-144 (Annex G), Washington, DC 20580.

FOR FURTHER INFORMATION CONTACT: Eric Spurlino, Economist, Division of Consumer Protection, Bureau of Economics, Federal Trade Commission, (202) 326-2516, espurlino@ftc.gov.

SUPPLEMENTARY INFORMATION:

Title of Collection: Generic Clearance for Information Collection Using Voluntary Surveys for Studies Conducted by the Federal Trade Commission Bureau of Economics to Support the FTC's Missions to Protect Consumers and Competition.

OMB Control Number: 3084-XXXX.

Type of Review: Proposed Collection.

Estimated Annual Burden Hours: 10,000 hours.

Abstract: Understanding consumers' perceptions and behaviors plays an important role in improving FTC law enforcement by better understanding potentially harmful and anticompetitive business practices and enabling efficient new methods to compute consumer injury. The FTC seeks to collect data using voluntary participation in surveys under this generic clearance to help with determining the issues and mechanisms underlying consumer behavior in response to unfair or deceptive business practices and to inform the FTC about how best to protect consumers in light of these practices. Data collected under this generic clearance may also be useful for monitoring emerging trends in deceptive and unfair practices in the marketplace and to understand the effectiveness of FTC's enforcement actions and consumer education efforts.

The Federal Trade Commission Act (the Act), 15 U.S.C. 41 through 58, authorizes the agency to conduct research and gather information on issues related to consumer protection and competition. Specifically, section 6(a) of the Act, 15 U.S.C. 46(a) provides the Commission shall have power “to gather and compile information concerning, and to investigate from time to time the organization, business, conduct, practices, and management of any person, partnership, or corporation engaged in or whose business affects commerce.” Accordingly, this generic clearance seeks to cover research consisting of voluntary focus groups, interviews, surveys, and experiments relating to consumers' perceptions of industry and business practices, and their behavior as it pertains to their relationship with these practices.

The information will be collected from voluntary participants through one-on-one telephone, internet, or in-person interviews, online focus groups, self-administered (online) surveys, or (online or in-person) economics experiments, depending upon the target audience, expectations about whether the information will be evaluated in an individual or group context, and the need to present educational or interventional materials. The methods to be used serve the narrowly defined need for direct and informal opinion on a specific topic and as qualitative and quantitative research tools, and have two major purposes:

1. Increase understanding of consumers' perceptions and behavioral responses to potentially harmful business practices.

2. To stay current on the latest trends in consumer experience with deceptive, unfair, or anticompetitive practices in the marketplace.

The FTC will use this information to better understand where to dedicate resources in investigation and enforcement, as well as to improve methods for assessing consumer harm and demand estimation. The research conducted under this voluntary information collection falls primarily under the Bureau of Economics within the FTC. However, other Bureaus or Offices within the FTC may offer advice and input into the research conducted. The research would not be used specifically for the purposes of making policy or regulatory decisions. Rather, the findings would help expand the agency's knowledge and understanding of consumer perception issues prevalent in its law-enforcement investigations. The FTC's Bureau of Economics will use this voluntary information collection to test communications and social and behavioral methods about consumer behavior and beliefs in ways that increase our understanding of consumer experiences as well as ways in which business practices may be or have the potential to be, inflicting harm on consumers. For one example, the FTC intends to use this information collection to conduct a voluntary survey of American consumers about their experiences of fraud in the marketplace.

As required by section 3506(c)(2)(A) of the PRA, 44 U.S.C. 3506(c)(2)(A), the FTC is providing this opportunity for public comment.

Burden statement: Annually, the FTC projects about 10 social and behavioral studies, involving voluntary respondents, using the variety of test methods listed in this document. The FTC is requesting this clearance so as not to restrict the agency's ability to gather voluntary information on public sentiment for its proposals in its enforcement and communications programs.

The FTC estimates the burden of this collection of information as follows:

Table 1—Estimated Annual Reporting Burden
Activity | Number of respondents | Number of responses per respondent | Total annual responses | Average burden per response (minutes) | Total hours
Interviews/Surveys | 20,000 | 1 | 20,000 | 30 | 10,000

Staff believes there are no current start-up costs or other capital costs associated with this collection of information.

Request for Comment

Pursuant to section 3506(c)(2)(A) of the PRA, the FTC invites comments on: (1) whether the collection of information is necessary for the performance of the functions of the agency, including whether the information will be practically useful; (2) the accuracy of our burden estimates, including whether the methodology and assumptions used are valid; (3) ways to enhance the quality, utility, and clarity of the information to be collected; and (4) ways to minimize the burden of the collection of information.

For the FTC to consider a comment, we must receive it on or before September 8, 2025. Your comment, including your name and your State, will be placed on the public record of this proceeding, including the https://www.regulations.gov website.

You can file a comment online or on paper. Due to heightened security screening, postal mail addressed to the Commission will be subject to delay. We encourage you to submit your comments online through the https://www.regulations.gov website. If you file your comment on paper, write “Generic Clearance for Information Collection Using Voluntary Surveys; PRA Comment; P072108,” on your comment and on the envelope, and mail it to the following address: Federal Trade Commission, Office of the Secretary, 600 Pennsylvania Avenue NW, Mail Stop H-144 (Annex G), Washington, DC 20580. If possible, submit your paper comment to the Commission by overnight service.

Because your comment will become publicly available at https://www.regulations.gov, you are solely responsible for making sure your comment does not include any sensitive or confidential information. In particular, your comment should not include any sensitive personal information, such as your or anyone else's Social Security number; date of birth; driver's license number or other State identification number, or foreign country equivalent; passport number; financial account number; or credit or debit card number. You are also solely responsible for making sure your comment does not include any sensitive health information, such as medical records or other individually identifiable health information. In addition, your comment should not include any “trade secret or any commercial or financial information which . . . is privileged or confidential”—as provided by section 6(f) of the FTC Act, 15 U.S.C. 46(f), and FTC Rule 4.10(a)(2), 16 CFR 4.10(a)(2)—including, in particular, competitively sensitive information, such as costs, sales statistics, inventories, formulas, patterns, devices, manufacturing processes, or customer names.

Comments containing material for which confidential treatment is requested must (1) be filed in paper form, (2) be clearly labeled “Confidential,” and (3) comply with FTC Rule 4.9(c). In particular, the written request for confidential treatment that accompanies the comment must include the factual and legal basis for the request, and must identify the specific portions of the comment to be withheld from the public record. See FTC Rule 4.9(c). Your comment will be kept confidential only if the General Counsel grants your request in accordance with the law and the public interest. Once your comment has been posted publicly at www.regulations.gov, we cannot redact or remove your comment unless you submit a confidentiality request that meets the requirements for such treatment under FTC Rule 4.9(c), and the General Counsel grants that request.

The FTC Act and other laws the Commission administers permit the collection of public comments to consider and use in this proceeding as appropriate. The Commission will consider all timely and responsive public comments that it receives on or before September 8, 2025. For information on the Commission's privacy policy, including routine uses permitted by the Privacy Act, see https://www.ftc.gov/site-information/privacy-policy.

By direction of the Commission.
Joel Christie,
Acting Secretary.

[FR Doc. 2025-12627 Filed 7-7-25; 8:45 am]

BILLING CODE 6750-01-P